DEPARTMENT OF HEALTH AND HUMAN SERVICES

National Institutes of Health

Center for Scientific Review; Amended Notice of Meeting

Notice is hereby given of a change in the meeting of the Center for Scientific Review Special Emphasis Panel BRAIN Initiative: Targeted BRAIN Circuits Projects, March 18, 2020, 8:00 a.m. to March 19, 2020, 6:00 p.m. at the Washington Plaza Hotel, 10 Thomas Circle NW, Washington, DC 20005, which was published in the Federal Register on February 20, 2020, 85 FR 9787.

The meeting will be held at the National Institutes of Health, 6701 Rockledge Drive, Bethesda, MD 20892. The format of the meeting has been changed to a Virtual Meeting. The meeting date and time remain the same. The meeting is closed to the public.

Dated: March 11, 2020.
Miguelina Perez,
Program Analyst, Office of Federal Advisory Committee Policy.

[FR Doc. 2020-05404 Filed 3-16-20; 8:45 am]

BILLING CODE 4140-01-P